DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado: El Paso (FEMA Docket No.: B-2391) | Unincorporated areas of El Paso County (23-08-0623X). | Cami Bremer, Chair, El Paso County Board of Commissioners, 200 South Cascade Avenue, Suite 100, Colorado Springs, CO 80903. | Pikes Peak Regional Building Department, Floodplain Management Office, 2880 International Circle, Colorado Springs, CO 80910. | Jan. 29, 2024 | 080059
Florida:
Monroe (FEMA Docket No.: B-2395) | City of Marathon (23-04-5034P). | The Honorable Luis Gonzalez, Mayor, City of Marathon, 9805 Overseas Highway, Marathon, FL 33050. | City Hall, 9805 Overseas Highway, Marathon, FL 33050. | Feb. 5, 2024 | 120681
Monroe (FEMA Docket No.: B-2386) | Unincorporated areas of Monroe County (23-04-4892P). | The Honorable Craig Cates, Mayor, Monroe County Board Commissioners, 500 Whitehead Street, Suite 102, Key West, FL 33040. | Monroe County Building Department, 2798 Overseas Highway, Suite 300, Marathon, FL 33050. | Jan. 26, 2024 | 125129
Monroe (FEMA Docket No.: B-2386) | Unincorporated areas of Monroe County (23-04-4894P). | The Honorable Craig Cates, Mayor, Monroe County Board Commissioners, 500 Whitehead Street, Suite 102, Key West, FL 33040. | Monroe County Building Department, 2798 Overseas Highway, Suite 300, Marathon, FL 33050. | Jan. 26, 2024 | 125129
Monroe (FEMA Docket No.: B-2386) | Unincorporated areas of Monroe County (23-04-4895P). | The Honorable Craig Cates, Mayor, Monroe County Board Commissioners, 500 Whitehead Street, Suite 102, Key West, FL 33040. | Monroe County Building Department, 2798 Overseas Highway, Suite 300, Marathon, FL 33050. | Jan. 26, 2024 | 125129
Pasco (FEMA Docket No.: B-2386) | Unincorporated areas of Pasco County (23-04-2400P). | Jack Mariano, Chair, Pasco County Board of Commissioners, 37918 Meridian Avenue, Dade City, FL 33525. | Pasco County Building Construction Services Department, 8731 Citizens Drive, Suite 230, New Port Richey, FL 34654. | Feb. 8, 2024 | 120230
Polk (FEMA Docket No.: B-2395) | Unincorporated areas of Polk County (23-04-2443P). | Bill Beasley, Manager, Polk County, 330 West Church Street, Bartow, FL 33830. | Polk County Land Development Division, 330 West Church Street, Bartow, FL 33830. | Feb. 1, 2024 | 120261
Volusia (FEMA Docket No.: B-2386) | City of Deltona (23-04-1244P). | The Honorable Santiago Avila, Jr., Mayor, City of Deltona, 2345 Providence Boulevard, Deltona, FL 32725. | City Hall, 2345 Providence Boulevard, Deltona, FL 32725. | Feb. 9, 2024 | 120677
Volusia (FEMA Docket No.: B-2386) | Unincorporated areas of Volusia County (23-04-1244P). | George Recktenwald, Volusia County Manager, 123 West Indiana Avenue, Deland, FL 32720. | Volusia County Thomas C. Kelly Administration Center, 123 West Indiana Avenue, Deland, FL 32720. | Feb. 9, 2024 | 125155
Massachusetts:
Essex (FEMA Docket No.: B-2395) | City of Gloucester (22-01-0881P). | The Honorable Greg Verga, Mayor, City of Gloucester, 9 Dale Avenue, Gloucester, MA 01930. | City Hall, 3 Pond Road, 2nd Floor, Gloucester, MA 01930. | Feb. 2, 2024 | 250082
Essex (FEMA Docket No.: B-2391) | City of Haverhill (22-01-1004P). | The Honorable James J. Fiorentini, Mayor, City of Haverhill, 4 Summer Street, Room 100, Haverhill, MA 01830. | Engineering Division, 4 Summer Street, Room 300, Haverhill, MA 01830. | Feb. 2, 2024 | 250085
Essex (FEMA Docket No.: B-2391) | Town of Groveland (22-01-1004P). | Daniel MacDonald, Chair, Town of Groveland Board of Selectmen, 183 Main Street, Groveland, MA 01834. | Economic Development Planning and Conservation Department, 183 Main Street, Groveland, MA 01834. | Feb. 2, 2024 | 250083
Essex (FEMA Docket No.: B-2391) | Town of West Newbury (22-01-1004P). | Angus Jennings, Town of West Newbury Manager, 381 Main Street, West Newbury, MA 01985. | Town Hall, 381 Main Street, West Newbury, MA 01985. | Feb. 2, 2024 | 250108
South Carolina:
Greenville (FEMA Docket No.: B-2386) | Unincorporated areas of Greenville County (23-04-1969P). | Joseph Kernell, Greenville County Administrator, 301 University Ridge, Suite N-4000, Greenville, SC 29601. | Greenville County Square, 301 University Ridge, Suite S-3100, Greenville, SC 29601. | Jan. 29, 2024 | 450089
Jasper (FEMA Docket No.: B-2391) | City of Hardeeville (22-04-2011P). | The Honorable Harry Williams, Mayor, City of Hardeeville, 205 Main Street, Hardeeville, SC 29927. | City Hall, 205 Main Street, Hardeeville, SC 29927. | Feb. 1, 2024 | 450113
Tennessee: Obion (FEMA Docket No.: B-2391) | Unincorporated areas of Obion County (23-04-1092P). | The Honorable Steve Carr, Mayor, Obion County, 316 South 3rd Street, Union City, TN 38261. | Obion County Department of Emergency Management, 1700 North 5th Street, Union City, TN 38261. | Jan. 25, 2024 | 470361
Texas:
Bexar, Comal and Kendall (FEMA Docket No.: B-2395) | City of Fair Oaks Ranch (21-06-2766P). | Scott M. Huizenga, Interim City Manager, City of Fair Oaks Ranch, 7286 Dietz Elkhorn Road, Fair Oaks Ranch, TX 78015. | Public Works and Engineering Services Department, 7286 Dietz Elkhorn Road, Fair Oaks Ranch, TX 78015. | Feb. 12, 2024 | 481644
Dallas (FEMA Docket No.: B-2395) | City of Cedar Hill (23-06-1951P). | The Honorable Stephen Mason, Mayor, City of Cedar Hill, 285 Uptown Boulevard, Cedar Hill, TX 75104. | City Hall, 285 Uptown Boulevard, Cedar Hill, TX 75104. | Feb. 12, 2024 | 480168
Dallas (FEMA Docket No.: B-2395) | City of DeSoto (23-06-1951P). | The Honorable Rachel L. Proctor, Mayor, City of DeSoto, 211 East Pleasant Run Road, DeSoto, TX 75115. | Engineering Department, 211 East Pleasant Run Road, DeSoto, TX 75115. | Feb. 12, 2024 | 480172
Dallas | City of Duncanville (23-06-1951P). | The Honorable Barry L. Gordon, Mayor, City of Duncanville, P.O. Box 380280, Duncanville, TX 75138. | City Hall, 203 East Wheatland Road, Duncanville, TX 75116. | Feb. 12, 2024 | 480173
Denton (FEMA Docket No.: B-2395) | City of Denton (23-06-0680P). | The Honorable Gerard Hudspeth, Mayor, City of Denton, 215 East McKinney Street, Denton, TX 76201. | Engineering Services Department, 401 North Elm Street, Denton, TX 76201. | Feb. 2, 2024 | 480194
Denton (FEMA Docket No.: B-2391) | City of The Colony (23-06-1976P). | The Honorable Richard Boyer, Mayor, City of The Colony, 6800 Main Street, The Colony, TX 75056. | Engineering Department, 6800 Main Street, The Colony, TX 75056. | Jan. 29, 2024 | 481581
Denton (FEMA Docket No.: B-2395) | City of Aubrey (23-06-1953P). | The Honorable Chris Rich, Mayor, City of Aubrey, 107 South Main Street, Aubrey, TX 76227. | City Hall, 107 South Main Street, Aubrey, TX 76227. | Feb. 12, 2024 | 480776
Denton (FEMA Docket No.: B-2395) | Unincorporated areas of Denton County (23-06-1953P). | The Honorable Andy Eads, Denton County Judge, 1 Courthouse Drive, Suite 3100, Denton, TX 76208. | Denton County Development Services Department, 3900 Morse Street, Denton, TX 76208. | Feb. 12, 2024 | 480774
Hays (FEMA Docket No.: B-2395) | Unincorporated areas of Hays County (23-06-0869P). | The Honorable Ruben Becerra, Hays County Judge, 111 East San Antonio Street, Suite 300, San Marcos, TX 78666. | Hays County Development Services Department, 2171 Yarrington Road, Suite 100, Kyle, TX 78640. | Feb. 1, 2024 | 480321
Johnson (FEMA Docket No.: B-2395) | City of Burleson (23-06-0273P). | The Honorable Chris Fletcher, Mayor, City of Burleson, 141 West Renfro Street, Burleson, TX 76028. | City Hall, 141 West Renfro Street, Burleson, TX 76028. | Feb. 12, 2024 | 485459
Travis (FEMA Docket No.: B-2395) | Unincorporated areas of Travis County (22-06-2280P). | The Honorable Andy Brown, Travis County Judge, P.O. Box 1748, Austin, TX 78767. | Travis County Transportation and Natural Resources Department, 700 Lavaca Street, 5th Floor, Austin, TX 78701. | Feb. 12, 2024 | 481026
Virginia:
Loudoun (FEMA Docket No.: B-2386) | Town of Leesburg (23-03-0239P). | Kaj Dentler, Manager, Town of Leesburg, 25 West Market Street, Leesburg, VA 20176. | Town Hall, 25 West Market Street, Leesburg, VA 20176. | Jan. 29, 2024 | 510091
Loudoun (FEMA Docket No.: B-2386) | Unincorporated areas of Loudoun County (23-03-0239P). | Tim Hemstreet, Loudoun County Administrator, 1 Harrison Street, Southeast, 5th Floor, Leesburg, VA 20175. | Loudoun County Government Center, 1 Harrison Street Southeast, 3rd Floor, MSC #60, Leesburg, VA 20175. | Jan. 29, 2024 | 510090
West Virginia: Tucker (FEMA Docket No.: B-2401) | Unincorporated areas of Tucker County (23-03-0296P). | Michael Rosenau, President, Tucker County Commission, 211 1st Street, Suite 307, Parsons, WV 26287. | Tucker County Floodplain Administration, 211 1st Street, Suite 1, Parsons, WV 26287. | Feb. 8, 2024 | 540191

[FR Doc. 2024-05092 Filed 3-8-24; 8:45 am]

BILLING CODE 9110-12-P